DEPARTMENT OF TRANSPORTATION

Surface Transportation Board

Senior Executive Service Performance Review Board (PRB) and Executive Resources Board (ERB) Membership

AGENCY: Surface Transportation Board, DOT.

ACTION: Senior Executive Service Performance Review Board (PRB) and Executive Resources Board (ERB) Membership.

SUMMARY: Effective immediately, the membership of the PRB and ERB is as follows:

Performance Review Board

Leland L. Gardner, Chairman

Rachel D. Campbell, Member

Craig M. Keats, Member

Lucille Marvin, Alternate Member

Executive Resources Board

Rachel D. Campbell, Chairman

Lucille Marvin, Member

Joseph H. Dettmar, Alternate Member

These changes to the PRB and ERB membership are due to the departure of STB General Counsel, Raymond Atkins and the subsequent appointment of Craig Keats to the General Counsel position.

FOR FURTHER INFORMATION CONTACT: If you have any questions regarding this matter, please contact Paula Chandler at (202) 245-0340.

Jeffrey Herzig,
Clearance Clerk.

[FR Doc. 2013-29124 Filed 12-5-13; 8:45 am]

BILLING CODE 4915-01-P